DEPARTMENT OF TRANSPORTATION

Office of the Secretary

Aviation Proceedings, Agreements Filed the Week Ending January 13, 2005

The following Agreements were filed with the Department of Transportation under the Sections 412 and 414 of the Federal Aviation Act, as amended (49 U.S.C. 1382 and 1384) and procedures governing proceedings to enforce these provisions. Answers may be filed within 21 days after the filing of the application.

Docket Number: OST-2006-23601.

Date Filed: January 9, 2005.

Parties: Members of the International Air Transport Association.

Subject: TC3 South East Asia—South Asian Subcontinent. Singapore, 21 November-30 November 2005.

Intended effective date: 1 February 2006 (Memo 0914).

Docket Number: OST-2006-23606.

Date Filed: January 10, 2005.

Parties: Members of the International Air Transport Association.

Subject: TC31 Passenger Tariff Coordinating Conference, Bangkok, 24 October-1 November 2005, TC31 North and Central Pacific, TC3 (except Japan)—North America, Caribbean Resolutions (except between Korea (Rep. of), Malaysia-USA).

Intended effective date: 1 April 2006 (Memo 0347).

Fares: TC31 North and Central Pacific, TC3 (except Japan)—North America Caribbean Resolutions (except between Korea (Rep. of), Malaysia-USA) Specified fare tables.

Intended effective date: 1 April 2006 (Memo 0168).

Minutes: TC31/TC123 Passenger Tariff Coordination Conference, Bangkok, 24 October-1 November 2005, TC31 North and Central Pacific Minutes (Memo 0349).

Intended effective date: 1 April 2006.

Docket Number: OST-2006-23607.

Date Filed: January 10, 2006.

Parties: Members of the International Air Transport Association.

Subject: TC31 Passenger Tariff Coordinating Conference, Bangkok, 24 October-1 November 2005, TC31 North and Central Pacific, TC3—Central America, South America Resolutions (Memo 0344).

Fares: TC31 Passenger Tariff Coordinating Conference, Bangkok, 24 October-1 November 2005, TC31 North and Central Pacific, TC3—Central America, South America Resolutions.

Intended effective date: 1 April 2006 (Memo 0165).

Minutes: TC31/TC123 Passenger Tariff Coordination Conference, Bangkok, 24 October-1 November 2005, TC31 North and Central Pacific Minutes (Memo 0349).

Intended effective date: 1 April 2006.

Docket Number: OST-2006-23608.

Date Filed: January 10, 2005.

Parties: Members of the International Air Transport Association.

Subject: TC31 Passenger Tariff Coordinating Conference, Bangkok, 24 October-1 November 2005, TC31 North and Central Pacific, Japan—North America, Caribbean Resolutions.

Intended effective date: 1 April 2006 (Memo 0346).

Fares: TC31 Passenger Tariff Coordinating Conference, Bangkok, 24 October-1 November 2005, TC31 North and Central Pacific, Japan—North America, Caribbean Resolutions.

Intended effective date: 1 April 2006 (Memo 0167).

Minutes: TC31/TC123 Passenger Tariff Coordinating Conference, Bangkok, 24 October-1 November 2005, TC31 North and Central Pacific Minutes (Memo 0349), Technical Correction: TC31 North and Central Pacific, Japan—North America, Caribbean Resolutions, Bangkok, 24 October-1 November 2005 (Memo 0348 & Memo 0350), TC31 North and Central Pacific, Japan—North America, Caribbean Resolutions.

Fares: (Memo 0170).

Intended effective date: 1 April 2006.

Docket Number: OST-2006-23609.

Date Filed: January 10, 2005.

Parties: Members of the International Air Transport Association.

Subject: TC123 Passenger Tariff Coordinating Conference, Bangkok, 24 October-1 November 2005, TC123 South Atlantic Resolutions (Memo 0322).

Minutes: TC123 Passenger Tariff Coordinating Conference, Bangkok, 24 October-1 November 2005, TC123 South Atlantic Resolutions (Memo 0323).

Tables: TC123 Passenger Tariff Coordinating Conference, Bangkok, 24 October-1 November 2005, TC123 South Atlantic Resolutions (Memo 0130).

Intended effective date: 1 April 2006.

Docket Number: OST-2006-23610.

Date Filed: January 10, 2005.

Parties: Members of the International Air Transport Association.

Subject: TC3 Within South Asian Subcontinent, Singapore, 21 November-30 November 2005

Intended effective date: 15 January 2006 (Memo 0906).

Renee V. Wright,
Program Manager, Docket Operations, Federal Register Liaison.

[FR Doc. E6-1412 Filed 2-1-06; 8:45 am]

BILLING CODE 4910-62-P